DEPARTMENT OF TRANSPORTATION

Federal Highway Administration

Rescission of Record of Decision and Final Environmental Impact Statement

AGENCY: Federal Highway Administration (FHWA), Department of Transportation.

ACTION: Notice to rescind the Record of Decision (ROD) and the Final Environmental Impact Statement (FEIS).

SUMMARY: The FHWA is issuing this notice to advise the public that we are rescinding the 2003 Record of Decision (ROD) and the Final Environmental Impact Statement (FEIS) that proposed to construct a segment of Interstate 66 (I-66) between eastern Pike County, Kentucky and western Mingo County, West Virginia.

FOR FURTHER INFORMATION CONTACT: Thomas Nelson, Jr., Division Administrator, Federal Highway Administration, Kentucky Division, 330 South Broadway Street, Frankfort, Kentucky, 40601, Telephone: (502) 223-6720.

SUPPLEMENTARY INFORMATION: The FHWA, as the lead Federal agency, in cooperation with the Kentucky Transportation Cabinet (KYTC), is rescinding the Record of Decision (ROD) and the Final Environmental Impact Statement (FEIS) for the proposal to construct a segment of Interstate 66 in Pike County, Kentucky and Mingo County, West Virginia. The Notice of Intent (NOI) to prepare the Environmental Impact Statement (EIS) was published in the Federal Register on March 15, 2000. The ROD was issued in October 27, 2003. The FHWA has determined, in conjunction with the KYTC, that the ROD and the FEIS for the project shall be rescinded for the following reasons: No foreseeable connection to the King Coal Highway; significant impacts of the 2003 Selected Alternative; other regional improvements meet the purposes and needs of the project; and the lack of funding for the construction of the project.

Any future Federal-aided action within this corridor will comply with environmental review requirements of the National Environmental Policy Act (NEPA) (42 U.S.C. 4321), FHWA environmental regulations (23 CFR 771) and related authorities, as appropriate. Comments and questions concerning this action should be directed to FHWA at the address provided above.

Issued on June 15, 2018.
Thomas Nelson, Jr.,
Division Administrator, FHWA Kentucky Division, Frankfort, Kentucky.

[FR Doc. 2018-13332 Filed 6-20-18; 8:45 am]

BILLING CODE 4910-22-P